DEPARTMENT OF HEALTH AND HUMAN SERVICES

Centers for Disease Control and Prevention

[30Day-14-0134]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Foreign Quarantine Regulations (OMB No. 0920-0134, expires 7/31/2015)—Revision—National Center for Emerging and Zoonotic Infectious Diseases (NCEZID), Division of Global Migration and Quarantine (DGMQ), Centers for Disease Control and Prevention (CDC).

Background and Brief Description

CDC is submitting this revision to obtain authority to collect electronic information from importers/filers on specific types of animals and cargo over which CDC has authority, notably those found in 42 CFR part 71. This request is consistent with requirements of the Security and Accountability for Every (SAFE) Port Act that states that all agencies that require documentation for clearing or licensing the importation and exportation of cargo participate in the International Trade Data System (ITDS), and is also consistent with CDC authorities under Section 361 of the Public Health Service Act (PHSA) (42 U.S.C. 264).

This electronic data is specified by CDC using Partner Government Agency (PGA) Message Sets and is collected by Customs and Border Protection (CBP) from importers/filers when they submit the information needed through International Trade Data System ITDS and the Automated Commercial Environment (ITDS/ACE) to clear an import. CDC has developed a PGA message set for each regulated import specified in 42 CFR part 71, and each PGA Message Set includes only those data requirements necessary in order to determine whether or not a CDC-regulated import poses a risk to public health and that the importer has met CDC's regulatory requirements for entry. CDC including the PGA Message Sets for review because there is no set form or format for the electronic submission of import related data to CBP and CDC. CDC is permitted access to the Automated Commercial Environment (ACE) data pursuant to 6 CFR § 29.8(b) and 49 CFR § 1520.11(b), which permit federal employees with a need to know to have access to this data.

CDC is maintaining its authority to collect hard copies of required documentation, as currently authorized by the Office of Management and Budget, because the use of ITDS/ACE will not be required for imports entering the United States until a later date. CDC will accept both hard copy and electronic filing of import-related documentation until the use of ACE is required for cargo entering the United States.

Through this revision, CDC is requesting a net increase in the estimated number of burden hours in the amount of 8,162. Of these additional hours, 7,862 pertain to requests for CDC Message Set data via ITDS/ACE, 167 hours pertain to required statements/documentation of products being rendered non-infectious, and 133 hours pertain to a revised estimate of the number of CDC form 75.37 “NOTICE TO OWNERS AND IMPORTERS OF DOGS: Requirement for Dog Confinement required from importers of dogs.

CDC also is providing wholly revised instructions for the Maritime Conveyance Cumulative Influenza/Influenza-Like Illness (ILI) Form and Maritime Conveyance Illness or Death Investigations form. No additional burden is requested for this change, because no increase in complexity of instructions or reporting information is requested.

Finally, CDC has removed burden totals for 42 CFR 71.52 Turtles, Tortoises and Terrapins (reduction of 3 hours from burden total); 42 CFR 71.55 Dead Bodies (reduction of 5 hours from burden total; and 42 CFR 71.56(a)(iii) and (c) Appeal—Appeal the denial of permit for importation of regulated animals; and Appeal for order of quarantine, destruction or re-export of regulated animals (reduction of 2 hours from burden total). CDC estimates that there are less than 10 occurrences a year when information is provided by a respondent pursuant to CDC requirements for importation. This results in a total reduction of 10 hours.

Respondents to this data collection include airline pilots, ships' captains, importers/filers, and travelers/general public. The nature of the response to CDC dictates which forms are completed by whom. There are two scenarios presented in this information collection request, and therefore two numbers for total number of respondents and two numbers for total burden. In the event of an outbreak of disease of public health significance with widespread use of the PLF occurs, CDC estimates that there will be 2,775,416 total respondents and 235,569 total burden hours. In the more limited use of the PLF, CDC estimates 75,406 total respondents and 10,435 total burden hours. There are no costs to respondents except for their time to complete the response.

Estimated Annualized Burden Hours
Type of respondent | Form name/CFR reference | Number of respondents | Number of responses per respondent | Average burden per response (in hours)
Maritime conveyance operators | 71.21(a) Radio Report of death/illness—illness reports from ships (fillable PDF (individual case and cumulative report), phone, transcribed email) | 2,000 | 1 | 2/60
Aircraft commander or operators | 71.21(b) Death/Illness reports from aircrafts (verbal, no form) | 1,700 | 1 | 2/60
Maritime conveyance operators | 71.21(c) Gastrointestinal Illnesses reports 24 and 4 hours before arrival (MIDRS) | 17,000 | 1 | 3/60
Maritime conveyance operators | 71.21(c) Recordkeeping—Medical logs (no form, captains provide logs) | 17,000 | 1 | 3/60
Isolated or Quarantined individuals | 71.33(c) Report by persons in isolation or surveillance (verbal, no form) | 11 | 1 | 3/60
Maritime conveyance operators | 71.35 Report of death/illness during stay in port (verbal, no form) | 5 | 1 | 30/60
Aircraft commander or operators | Locator Form used in an outbreak of public health significance | 2,700,000 | 1 | 5/60
Aircraft commander or operators | Locator Form used for reporting of an ill passenger(s) | 800 | 1 | 5/60
Importer | 71.51(b)(2) Dogs/cats: Certification of Confinement, Vaccination (CDC form 75.37) | 2,800 | 1 | 10/60
Importer | 71.51(b)(3) Dogs/cats: Record of sickness or deaths (no form, record review) | 20 | 1 | 15/60
Importer/Filer | CDC PGA Message Set for Importing Cats and Dogs | 30,000 | 1 | 15/60
Importer | 71.56(a)(2) African Rodents—Request for exemption ( no form, written request only) | 20 | 1 | 1
Importer/Filer | CDC PGA Message Set for Importing African Rodents | 60 | 1 | 15/60
Importer | Statement or documentation of Non-infectiousness (Documented, no form; authority under 71.32(b)) | 2,000 | 1 | 5/60
Importer/Filer | CDC PGA Message Set for Importing African Rodent and All Family Viverridae Products | 2,000 | 1 | 15/60

Leroy Richardson,
Chief, Information Collection Review Office, Office of Scientific Integrity, Office of the Associate Director for Science, Office of the Director, Centers for Disease Control and Prevention.

[FR Doc. 2014-14338 Filed 6-18-14; 8:45 am]

BILLING CODE 4163-18-P